DEPARTMENT OF JUSTICE

[OMB Number 1121-0321]

Agency Information Collection Activities; Proposed eCollection eComments Requested; Revision of a Currently Approved Collection: National Institute of Justice Compliance Testing Program

AGENCY: Office of Justice Programs, Department of Justice.

ACTION: 60-day notice.

SUMMARY: The Department of Justice (DOJ), Office of Justice Programs, National Institute of Justice (NIJ), will be submitting the following information collection request to the Office of Management and Budget (OMB) for review and approval in accordance with the Paperwork Reduction Act of 1995.

DATES: Comments are encouraged and will be accepted for 60 days until March 21, 2016.

FOR FURTHER INFORMATION CONTACT: If you have additional comments especially on the estimated public burden or associated response time, suggestions, or need a copy of the proposed information collection instrument with instructions or additional information, please contact: Michael O'Shea (202) 305-7954, National Institute of Justice (NIJ), Office of Justice Programs, U.S. Department of Justice, 810 Seventh Street NW., Washington, DC 20531 or Jamie.phillips@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1 Type of Information Collection: Revision of a currently approved collection.

2 The Title of the Form/Collection: National Institute of Justice Compliance Testing Program (NIJ CTP). This collection consists of eight forms: NIJ CTP Applicant Agreement; NIJ CTP Authorized Representatives Notification; NIJ CTP Body Armor Build Sheet; NIJ CTP Ballistic Body Armor Agreement; NIJ CTP Manufacturing Location Notification; NIJ CTP Multiple Listee Notification; NIJ Approved Laboratory Application and Agreement; NIJ CTP Electronic Signature Agreement.

3 The agency form number, if any, and the applicable component of the Department sponsoring the collection: N/A, National Institute of Justice.

4 Affected public who will be asked or required to respond, as well as a brief abstract: Applicants to the NIJ Compliance Testing Program and Testing Laboratories. Other: None. The purpose of the voluntary NIJ Compliance Testing Program (CTP) is to provide confidence that equipment used for law enforcement and corrections applications meets minimum published performance requirements.

5 An estimate of the total number of respondents and the amount of time estimated for an average respondent to respond:

NIJ CTP Applicant Agreement: Estimated 80 respondents at 1 hour each;

NIJ CTP Authorized Representatives Notification: Estimated 25 respondents at 15 minutes each;

NIJ CTP Body Armor Build Sheet: Estimated 60 respondents (estimated 150 responses) at 1 hour each;

NIJ CTP Body Armor Agreement: Estimated 60 respondents (estimated 150 responses) at 15 minutes each;

NIJ CTP Manufacturing Location Notification: Estimated 60 respondents (estimated 100 responses) at 15 minutes each;

NIJ CTP Listee Notification: Estimated 60 respondents at 15 minutes each;

NIJ Approved Laboratory Application and Agreement: Estimated 5 respondents at 1 hour each;

NIJ CTP Electronic Signature Agreement: Estimated 60 respondents at 10 minutes each.

6 An estimate of the total public burden (in hours) associated with the collection: The estimated total public burden associated with this information is 328 hours in the first year and 289 hours each subsequent year.

If additional information is required contact: Jerri Murray, Department Clearance Officer, United States Department of Justice, Justice Management Division, Policy and Planning Staff, Two Constitution Square, 145 N Street NE., 3E.405B, Washington, DC 20530.

Dated: January 13, 2016.
Jerri Murray,
Department Clearance Officer for PRA, U.S. Department of Justice.

[FR Doc. 2016-00877 Filed 1-15-16; 8:45 am]

BILLING CODE 4410-18-P